DEPARTMENT OF TRANSPORTATION

Federal Highway Administration

Intelligent Transportation Society of America; Public Meeting

AGENCY: Federal Highway Administration (FHWA), DOT.

ACTION: Notice of public meeting.

SUMMARY: The Intelligent Transportation Society of America (ITS AMERICA) will hold a meeting of its Board of Directors on Thursday, May 2, 2002. The meeting runs from 1 p.m. to 5 p.m. The session includes the following items: (1) Welcome, introductions, ITS America antitrust policy, conflict of interest statements; (2) Review and acceptance of election results: installation of new Board members; (3) Presentation of nominees for Officers of the Board; (4) Acceptance of other nominations for Officers and Directors of the 2000-2001 Board of Directors; (5) Transfer of Gavel from outgoing Chairman to the New Chairman; (6) Recognition of Outgoing Board Members and Officers; (7) Consent Agenda: (a) Approval of Minutes from Jan. 17, 2002, Board Meetings; (b) March 18, 2002 Executive Committee Meeting Report; (c) Membership Report; (d) Federal Report; (e) Finance Committee Report; (f) Dues and Revenue Task Force Report; (g) Bylaws Task Force Report (Approval of Bylaw changes); (h) Meetings Location Task Force Report; (i) Homeland Security Task Force; (j) TEA-21 Reauthorization Task Force Report; (8) Executive Forum for Business and Trade Report; (9) State Chapters Council Report; (10) International Affairs Council Report; (11) Coordinating Council Reorganization and Report; (12) Future Board Meetings; (13) Board Retreat Agenda; (14) New Business; (15) Adjournment.

ITS AMERICA provides a forum for national discussion and recommendations on ITS activities including programs, research needs, strategic planning, standards, international liaison, and priorities.

The charter for the utilization of ITS AMERICA establishes this organization as an advisory committee under the Federal Advisory Committee Act (FACA) 5 U.S.C. app. 2, when it provides advice or recommendation to DOT officials on ITS policies and programs. (56 FR 9400, March 6, 1991).

DATES: The Board of Directors of ITS AMERICA will meet on Thursday, May 2, 2002, from 1 p.m.-5 p.m.

ADDRESSES: Hyatt Regency Long Beach, Sea View Ballroom A/B, 200 South Pine Avenue, Long Beach, California, 90802. Phone (562) 491-1234.

FOR FURTHER INFORMATION CONTACT: Materials associated with this meeting may be examined at the offices of ITS AMERICA, 400 Virginia Avenue SW., Suite 800, Washington, DC 20024. Persons needing further information or who request to speak at this meeting should contact Debbie M. Busch at ITS AMERICA by telephone at (202) 484-2904 or by FAX at (202) 484-3483. The DOT contact is Kristy Frizzell, FHWA, HOIT, Washington, DC 20590, (202) 366-9536. Office hours are from 8:30 a.m. to 5 p.m., e.t., Monday through Friday, except for legal holidays.

(23 U.S.C. 315; 49 CFR 1.48)
Issued on: March 1, 2002.
Jeffrey F. Paniati,
Program Manager, ITS Joint Program Office, Department of Transportation.

[FR Doc. 02-5343 Filed 3-5-02; 8:45 am]

BILLING CODE 4910-22-M